LEGAL SERVICES CORPORATION

Sunshine Act Meeting of the Board of Directors, Committee on Provision for the Delivery of Legal Services

TIME AND DATE: The Committee on Provision for the Delivery of Legal Services of the Legal Services Corporation Board of Directors will meet on November 10, 2000. The meeting will begin at 2 p.m. and continue until the Committee concludes its agenda.

LOCATION: Marriott at Metro Center, 775 12th Street, NW, Washington, D.C.

STATUS OF MEETING: Open.

MATTERS TO BE CONSIDERED:

1. Approval of agenda.

2. Approval of the minutes of the Committee's meeting of September 17, 2000.

3. Staff presentation on LSC's efforts to define, measure and ensure quality in the services provided by LSC grantees and through state justice communities.

4. Report by Danilo Cardona, Director of the Office of Compliance & Enforcement, and Mike Genz, Director of the Office of Program Performance, on the progress of LSC's Results Project.

5. Staff report on the 2001 conference on client-centered legal services.

6. Presentation by Ester Lardent, on behalf of the ABA's Standing Committee on Legal Aid and Indigent Defendants, on corporate pro bono.

7. Update by Randi Youells, Vice President for Programs, on Competition and State Planning.

8. Consider and act on other business.

9. Public comment.

CONTACT PERSON FOR INFORMATION: Victor M. Fortuno, Vice President for Legal Affairs, General Counsel & Secretary of the Corporation, at (202) 336-8800.

SPECIAL NEEDS: Upon request, meeting notices will be made available in alternate formats to accommodate visual and hearing impairments. Individuals who have a disability and need an accommodation to attend the meeting may notify Shannon Nicko Adaway, at (202) 336-8800.

Dated: November 1, 2000.
Victor M. Fortuno,
Vice President for Legal Affairs, General Counsel & Corporate Secretary.

[FR Doc. 00-28463 Filed 11-1-00; 4:56 pm]

BILLING CODE 7050-01-P